DEPARTMENT OF STATE

[Public Notice: 10382]

Notice of Business Roundtable Meeting on U.S.-Japan Infrastructure Partnership in Third Countries

AGENCY: Department of State.

ACTION: Notice of meeting.

Notice is hereby given of a business roundtable meeting with U.S. and Japanese industry. The meeting will take place on Monday, April 23, 2018, at the U.S. Department of State (2201 C Street NW, Washington, DC 20520). The meeting will be on the U.S.-Japan Infrastructure Partnership in Third Countries. The partnership is intended to assist U.S. and Japanese industry to expand business opportunities in the Indo-Pacific region and to help Indo-Pacific nations secure quality, best value infrastructure that meets their social and economic goals. This roundtable discussion advances our decision under the U.S.-Japan Economic Dialogue to strengthen U.S.-Japan public and private sector partnerships on third country infrastructure projects.

Members of the public may participate in the meeting, subject to meeting room capacity and the instructions of the Chair. Registration will begin promptly at 8:00 a.m. and the meeting is expected to last approximately nine hours. An RSVP is required by 5:00 p.m. on Friday, April 13. To request more information about the meeting or the partnership, to RSVP, and to make any requests for reasonable accommodation, email us-jp-infrastructure@state.gov. Requests for reasonable accommodation made after April 13 will be considered, but might not be possible to fulfill.

DATES: The meeting will be held April 23, 2018. Please RSVP and submit any requests for reasonable accommodation by April 13, 2018.

FOR FURTHER INFORMATION CONTACT: Ms. Heather Dresser, Foreign Affairs Officer, Office of Japan Affairs, email: us-jp-infrastructure@state.gov or phone (202) 736-7050.

Edwin S. Saeger,
Acting Director, Office of Japan Affairs, Department of State.

[FR Doc. 2018-06954 Filed 4-4-18; 8:45 am]

BILLING CODE 4710-30-P